DEFENSE NUCLEAR FACILITIES SAFETY BOARD

Sunshine Act Meeting

SUMMARY: Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

Time and Date of Meeting: 6 p.m., December 5, 2007.

Place: Duane W. Smith Auditorium, 1400 Diamond Drive, Los Alamos, New Mexico 87544. Additionally, as part of the Board's E-Government initiative, the hearing and meeting will be video recorded. A link to the video recording will be available on the Board's Web site (http://www.dnfsb.gov) following the hearing and meeting.

Status: Open. While the Government in the Sunshine Act does not require that the scheduled discussion be conducted in a meeting, the Board has determined that an open meeting in this specific case furthers the public interests underlying both the Sunshine Act and the Board's enabling legislation.

Matters to be Considered: In this public hearing and meeting, the Board will assess the safety posture at Los Alamos National Laboratory (LANL), including actions taken in response to the Board's letter, dated February 1, 2007, to the Acting Administrator of the National Nuclear Security Administration (NNSA). In that letter, the Board suggested actions that would substantially improve the safety posture of the laboratory. These actions include strengthening federal safety oversight, improving safety bases and ensuring the efficacy of safety systems, developing effective institutional safety programs, eliminating known hazards, and increasing federal management of new projects. The Board anticipates testimony from the laboratory's management and operation contractor, Los Alamos National Security (LANS), and senior management officials from NNSA regarding actions, both taken and planned, to improve the health and safety of workers at defense nuclear facilities at the laboratory and the public. Under the Atomic Energy Act of 1954, as amended, the Board is required, among other things, to review and evaluate the content and implementation of standards relating to the design, construction, operation, and decommissioning of Department of Energy (DOE) defense nuclear facilities, including all applicable DOE orders, regulations, and requirements pertaining to such facilities. The Board is also responsible for investigating any event or practice at DOE defense nuclear facilities which the Board determines has adversely affected, or may adversely affect, the health and safety of the workers and the public. In this December 5, 2007, hearing and meeting, the Board will examine how NNSA and LANS will ensure adequate protection of the public health and safety, including that of the workers, and safety performance at laboratory defense nuclear facilities. The Board will collect information needed to understand and address any health or safety concerns that may require Board action with respect to operations at defense nuclear facilities at LANL. This information will include, but is not limited to, presentations from NNSA and LANS senior management officials and NNSA Los Alamos Site Office personnel. The public hearing portion of this proceeding is authorized by 42 U.S.C. 2286b.

Contact Person for More Information: Brian Grosner, General Manager, Defense Nuclear Facilities Safety Board, 625 Indiana Avenue, NW., Suite 700, Washington, DC 20004-2901, (800) 788-4016. This is a toll-free number.

SUPPLEMENTARY INFORMATION: Requests to speak at the hearing and meeting may be submitted in writing or by telephone. The Board asks that commentators describe the nature and scope of their oral presentation. Those who contact the Board prior to 4 p.m. EST on December 4, 2007, will be scheduled for time slots. While the hearing and meeting will start at 6 p.m., time slots for speakers from the public will begin at approximately 8 p.m. The Board will post a schedule for speakers at the entrance to the Duane W. Smith Auditorium at the start of the hearing and meeting.

Anyone who wishes to comment or provide technical information or data may do so in writing, either in lieu of, or in addition to, making an oral presentation. The Board Members may question presenters to the extent deemed appropriate by the Members. Documents will be accepted at the hearing and meeting or may be sent to the Defense Nuclear Facilities Safety Board's Washington, DC office. The Board will hold the record open until January 5, 2008, for the receipt of additional materials. A transcript of the hearing and meeting will be made available by the Board for inspection by the public at the Defense Nuclear Facilities Safety Board's Washington office and at DOE's public reading room at the DOE Federal Building, 1000 Independence Avenue, SW., Washington, DC 20585.

The Board specifically reserves its right to further schedule and otherwise regulate the course of the hearing and meeting, to recess, reconvene, postpone, or adjourn the hearing and meeting, conduct further reviews, and otherwise exercise its powers under the Atomic Energy Act of 1954, as amended.

A.J. Eggenberger,
Chairman.

[FR Doc. 07-5446 Filed 10-30-07; 9:30 am]

BILLING CODE 3670-01-P